SECURITIES AND EXCHANGE COMMISSION

[Release No. 34-62354; File No. SR-NYSEAmex-2010-57]

Self-Regulatory Organizations; Notice of Filing and Immediate Effectiveness of Proposed Rule Change by NYSE Amex LLC Amending Rule 0 To Provide That Certain References in Exchange Rules Should Be Understood To Also Include FINRA, as Applicable

June 22, 2010.

Correction

In notice document 2010-15649 beginning on page 36730 in the issue of Monday, June 28, 2010, make the following correction:

On page 36730, in the third column, the department docket number is printed correctly to read as set forth above.

[FR Doc. C1-2010-15649 Filed 7-2-10; 8:45 am]

BILLING CODE 1505-01-D